DEPARTMENT OF COMMERCE

International Trade Administration

The Manufacturing Council: Meeting of The Manufacturing Council

AGENCY: International Trade Administration, U.S. Department of Commerce.

ACTION: Notice of an open meeting.

SUMMARY: The Manufacturing Council will hold a meeting to deliberate a letter of recommendation regarding the U.S. manufacturing industry. The Board was re-chartered on April 10, 2008, to advise the Secretary of Commerce on matters relating to the U.S. manufacturing industry.

DATES: October 1, 2009.

Time: 2:30 p.m. (ET).

ADDRESSES: Department of Commerce, 1401 Constitution Avenue, NW., Room 4830, Washington, DC, 20230. Because of building security, all non-government attendees must pre-register. This program will be physically accessible to people with disabilities. Seating is limited and will be on a first come, first served basis. Requests for sign language interpretation, other auxiliary aids, or pre-registration, should be submitted no later than September 25, 2009, to J. Marc Chittum, The Manufacturing Council, Room 4043, 1401 Constitution Avenue, NW., Washington, DC 20230, telephone 202-482-4501, Marc.Chittum@mail.doc.gov.

FOR FURTHER INFORMATION CONTACT: J. Marc Chittum, The Manufacturing Council, Room 4043, 1401 Constitution Avenue, NW., Washington, DC 20230, telephone: 202-482-4501, e-mail: Marc.Chittum@mail.doc.gov.

Dated: September 10, 2009.
J. Marc Chittum,
Executive Secretary, U.S. Travel and Tourism Advisory Board.

[FR Doc. E9-22242 Filed 9-14-09; 8:45 am]

BILLING CODE 3510-DR-P